Title 3—

The President

Memorandum of August 1, 2016

Delegation of Functions and Authorities Under the Protect and Preserve International Cultural Property Act

Memorandum for the Secretary of State

By the authority vested in me as President by the Constitution and the laws of the United States of America, including section 301 of title 3, United States Code, the functions and authorities conferred upon the President by the Protect and Preserve International Cultural Property Act (Public Law 114-151, 130 Stat. 369) are hereby delegated to the Secretary of State. In the performance of such functions, the Secretary of State shall consult the Secretaries of Homeland Security and the Treasury, and the heads of other departments and agencies, as appropriate.

You are authorized and directed to publish this memorandum in the Federal Register.

THE WHITE HOUSE,

Washington, August 1, 2016

[FR Doc. 2016-19821

Filed 8-17-16; 8:45 am]

Billing code 4710-10-P